DEPARTMENT OF TRANSPORTATION

Federal Aviation Administration

Aviation Rulemaking Advisory Committee Teleconference on Transport Airplane and Engine Issues

AGENCY: Federal Aviation Administration, DOT.

ACTION: Notice of public teleconference.

SUMMARY: This notice announces a public teleconference of the FAA's Aviation Rulemaking Advisory Committee (ARAC) to discuss transport airplane and engine (TAE) issues.

DATES: The teleconference is scheduled for Thursday, July 06, 2017, starting at 11:00 a.m. Eastern Daylight Time.

ADDRESSES: This is a public teleconference.

FOR FURTHER INFORMATION CONTACT: Nikeita Johnson, Office of Rulemaking, ARM-024, FAA, 800 Independence Avenue SW., Washington, DC 20591, Telephone (202) 267-4977, Fax (202) 267-5075, or email at Nikeita.johnson@faa.gov.

SUPPLEMENTARY INFORMATION: Pursuant to § 10(a)(2) of the Federal Advisory Committee Act (Pub. L. 92-463; 5 U.S.C. App. III), notice is given of an ARAC teleconference to be held July 06, 2017.

The agenda for the teleconference is as follows:

• Opening Remarks, Review of the Agenda and Minutes

• FAA Report

• ARAC Report

• Transport Canada Report

• EASA Report

• Metallic and Composite Structures Working Group

• Crashworthiness and Ditching Working Group

• Engine Harmonization Working Group—Engine Endurance Testing (Final Report Acceptance)

• Flight Test Harmonization Working Group (Phase 2 Final Report Acceptance)

• Action Item Review

• Any Other Business

Attendance is open to the public, but will be limited to the availability of teleconference lines. Participation will be by teleconference only. Please confirm your participation with the person listed in the FOR FURTHER INFORMATION CONTACT section no later than June 29, 2017.

To participate, please contact the person listed in the FOR FURTHER INFORMATION CONTACT section by email or phone for the teleconference call-in number and passcode. Anyone calling from outside the Renton, WA, metropolitan area will be responsible for paying long-distance charges.

The public must make arrangements by June 29, 2017, to present oral statements at the teleconference. Copies of the documents to be presented to ARAC may be made available by contacting the person listed in the FOR FURTHER INFORMATION CONTACT section.

If you need assistance or require a reasonable accommodation for the meeting or meeting documents, please contact the person listed in the FOR FURTHER INFORMATION CONTACT section.

Issued in Washington, DC on May 23, 2017.
Lirio Liu,
Acting Director, Office of Rulemaking.

[FR Doc. 2017-11067 Filed 5-26-17; 8:45 am]

BILLING CODE 4910-13-P